DEPARTMENT OF LABOR

Office of Disability Employment Policy

[SGA 09-03]

Registered Apprenticeship for Youth and Young Adults With Disabilities Initiative; Solicitation for Cooperative Agreements.

Announcement Type: New Notice of Availability of Funds and Solicitation for Grant Applications (SGA) for Cooperative Agreement.

Funding Opportunity Number: SGA 09-03.

Catalog of Federal Domestic Assistance (CFDA) Number: 17.720.

DATES: Key Date: Applications must be received thirty (30) days after the publication date in the Federal Register.

Executive Summary: The U.S. Department of Labor (“DOL” or “Department”), Office of Disability Employment Policy (ODEP) and the DOL's Employment and Training Administration's (ETA) Office of Apprenticeship (OA) announce the availability of approximately $400,000 to fund cooperative agreements to conduct two pilot projects to develop models to improve systems capacity to provide inclusive Registered Apprenticeship training and pre-apprenticeship training to youth and young adults with disabilities with a 24-month period of performance, and the possibility of up to 3 additional option years of funding at the discretion of the Department depending on the availability of funds and satisfactory performance. Under this initiative, funding will be awarded through a competitive process to two consortia to research, test, and evaluate innovative systems models for providing inclusive integrated apprentice training in a high-growth industry to youth and young adults with disabilities, including those with the most significant disabilities, between the ages of 16 and 27. To be considered for an award, consortium applying for the grant must have representation from each of the following four organization types:

1. A Registered Apprenticeship Program (RAP) sponsor in a high-growth industry sector;

2. A community-based organization (CBO) with demonstrated experience securing job training services from established training institutions such as community colleges, and providing placement and support services to apprentices in high-growth industries;

3. A public/private non-profit or for-profit organization, which may be faith-based, with demonstrated experience providing employment and training services and employment related support services to people with disabilities; and

4. An educational institution.

This solicitation provides background information, describes the application submission requirements, outlines the process that eligible entities must use to apply for funds covered by this solicitation, and outlines the evaluation criteria used as a basis for selecting the grantees.

Application and submission information is explained in detail in Part IV of this SGA. There will be a Prospective Applicant Webinar held for this grant competition. The date and access information for this Prospective Applicant Webinar will be posted on ODEPs Web site at http://www.dol.gov/odep.

SUPPLEMENTARY INFORMATION: This solicitation consists of eight parts:

• Part I provides a description of this funding opportunity.

• Part II describes the size and nature of the anticipated awards.

• Part III describes eligibility information.

• Part IV provides information on the application and submission process.

• Part V describes the criteria against which applications will be reviewed and explains the proposal review process.

• Part VI provides award administration information.

• Part VII contains DOL agency contact information.

• Part VIII lists additional resources of interest to applicants and other information.

Part I. Funding Opportunity Description

1. Background

The Office of Disability Employment Policy provides national leadership by developing and influencing disability-related employment policies and practices. A five-year strategic plan guides ODEP in achieving its mission by identifying long-term strategic and outcome goals as well as shorter-term intermediate and performance goals. In addition to measuring agency performance, as required by the Government Performance and Results Act (GPRA), the strategic plan sets forth a road map for prioritizing the formulation and dissemination of innovative employment policies and practices to service delivery systems and employers.

ODEP's annual goal is to build knowledge and advance disability employment policy that affects and promotes systems change. The agency's long- and short-term goals focus efforts on initiatives that bring about this level of change. In short, ODEP develops policies and strategies that will:

• Enhance the capacity of service delivery systems to provide appropriate and effective services and supports to youth and adults with disabilities.

• Increase planning and coordination within service delivery systems to develop and improve systems, processes, and services.

• Improve individualization of services to better assist youth and adults with disabilities in seeking, obtaining, and retaining employment or self-employment.

• Increase employer access to supports and services to meet their employment needs.

• Increase the quality of competency-based training for service delivery systems.

• Increase the adoption of universal strategies for service provision.

• Develop partnerships with and among critical stakeholders to effectively leverage available resources and facilitate implementation of practices and policies that increase employment and self-employment opportunities and the recruitment, retention, and promotion of youth and adults with disabilities.

As required by the Government Performance and Results Act, the following three output measures inform ODEP of its progress in meeting its annual goal of building knowledge and advancing disability employment policy:

1. The number of policy-related documents.

2. The number of formal agreements.

3. The number of effective practices.

These performance measures generate results that in turn support the achievement of the following outcome goals: Increased Awareness/Knowledge Transfer; Adoption/Implementation of Policies and/or Effective Practices; and Customer Satisfaction with ODEP's Products and Services. Achievement of these outcome goals will eventually lead to the creation of Most Significant Changes (MSCs) in systems and entities affecting employment opportunities for people with disabilities.

Developing the talents, skills and capabilities of the workforce has always played an important part in our nation's economic strength. The 21st century economic landscape is rapidly changing as technology and globalization alter the nature of work and the skills and training needed by workers to remain competitive. Ninety percent of the fastest growing jobs in the United States today require post-secondary education. This, coupled with the rapidly growing rate of baby boomer retirements heightens the importance of preparing youth for the skills employers need.

This issue has significant impact on the economic development of communities, states, regional economies and ultimately that of our nation. The workforce investment system plays a vital role in addressing the need to develop talent pools of young workers who serve as a “youth supply pipeline,” which helps to drive economic growth.

To improve the competitiveness of U.S. businesses in the global economy, recent high school reform advocates have focused on the need for greater preparation of all high school students for both work and advanced education. A widespread recognition now exists that schools must help the nation's youth advance both academically and occupationally, and to see these as compatible goals (Butler, 2006).

Over the past decade through the School to Work Opportunities Act and the Individuals with Disabilities Education Act, the Federal Government has stressed the importance of improving transition services nationally for youth with disabilities, and has assumed a strategic role in supporting state and local efforts to improve transition services through the identification of promising practices, delivery strategies, and policy development. Moreover, the 2006 reauthorization of the Carl D. Perkins Vocational and Technical Education Act has reenergized efforts to promote the use of career and technical education as a strategy for learning in the context of improved academic achievement for all students. In addition, the Workforce Investment Act of 1998 and the No Child Left Behind Act of 2001 have resulted in reform efforts that focus on high academic and occupational standards; promote the use of state and local standards-based accountability systems; call for broad-based partnerships between schools, employers, postsecondary institutions, and families; support full participation and equal access to the general education curriculum; and emphasize research-based teaching methods.

Federal and state efforts to improve transition policies and practices for youth with disabilities over the past decade have resulted in some positive gains including increases in graduation rates, enrollments in postsecondary education, and in the number of youths entering the workforce (Office of Special Education Programs, Data Analysis System (DANS); Newman, 2005; Cameto and Levine, 2005). For example, national data indicate that there has been some improvement in the overall graduation rate of students with disabilities in the United States. Between the 1995-1996 and 1999-2000 school years, the percentage of youth with disabilities graduating with regular diplomas, as reported by states, grew from 52.6 percent to 56.2 percent while the percentage of students with disabilities who dropped out of school declined from 34.1 percent to 29.4 percent (U.S. Department of Education, 2002).

Nonetheless, significant challenges remain. National studies and reports have shown that, compared to their non-disabled peers, students with disabilities are less likely to receive a regular high school diploma; drop out twice as often; and enroll in and complete postsecondary education programs at half the rate. Up to two years after leaving high school, about 4 in 10 youth with disabilities are employed as compared to 6 in 10 same-age out-of-school youth in the general population (National Center for Education Statistics, 2000; National Longitudinal Transition Study-2 (NLTS-2), 2005).

The Department's Bureau of Labor Statistics released the first official data on the employment status of people with disabilities on February 6, 2009. In January 2009, the employment rate for people with disabilities was 23.1 percent. The unemployment rate for those with disabilities was 13.2 percent. (http://www.bls.gov./cps/cpsdisability.htm).¹ The National Longitudinal Transition Study-2 (NLTS-2) indicates that employment rates vary considerably across disability categories for students with disabilities who were enrolled in special education. Youth with learning disabilities, emotional disturbances, other health impairments, or speech impairments are the most likely to be employed in a 1-year period (50 percent to 60 percent). In contrast, youth with significant disabilities have significantly lower employment rates, e.g., 15 percent for youth with autism, 25 percent for youth with multiple disabilities, deaf-blindness, or orthopedic impairments, and 33 percent for youth with mental retardation or visual impairments.

¹ After several years of research and testing, ODEP sponsored the addition of new disability questions to the Current Population Survey (CPS) to generate data to gauge the employment status of people with disabilities. These data provide, for the first time, an official measure to the labor force situation for people with disabilities.

A number of recent studies examining career and technical education programs and the use of structured work-based learning approaches suggest that such approaches are an important aspect of and contribute to better outcomes in school, e.g., student achievement; knowledge assimilation and retention; motivation and post-school, e.g., educational continuation and employment success (AYPF, 2003; National Association of State Directors of Career Technical Education, 2003). Moreover, when youth with disabilities take career and technical education in their last year of high school or concentrate in a career and technical education content area, research indicates that they have higher rates of high school graduation, competitive employment, postsecondary education attendance, and advances in earnings or wages (Scholl & Mooney, 2003; Benz, Lindstrom, & Yovanoff, 2000; Cobb, et al.,1999; Eisenman, 2000; Harvey, 2002; Luecking & Fabian, 2000; Phelps, 1998).

Research further identifies the following program components as effective in linking work experiences with permanent employment and postsecondary education success for students with and without disabilities:

• Work-based and school-based learning supported by high academic content and standards;

• Standards that emphasize the application of knowledge and skills to the same extent that they emphasize their accomplishment;

• Integration of academic and vocational education;

• Authentic teaching and learning strategies that ensure students gain a better understanding of the connections between learning and working;

• Opportunities for students to explore their interests and ambitions, and to apply and practice skills and knowledge;

• Exposure to positive role models and constructive support systems; and

• Family/parental involvement and support (Scholl & Mooney, 2002; Hayward & Tallmadge, 1995; Lambrecht et al., 1997; Merritt & Williams, 1999; Phelps & Wermuth, 1992; Woloszyk, 1996).

Registered Apprenticeship programs offer one type of career and technical education experience that can help youth and young adults with disabilities to achieve employment success. A Registered Apprenticeship is a nationally registered program overseen either by DOL's Office of Apprenticeship working in conjunction with State Apprenticeship Agencies (SAAs) in states which are recognized by DOL as authorized to register apprentices for Federal purposes or by DOL's OA in other states. Apprentices may begin a Registered Apprenticeship at age 16, but the minimum age for most programs is 18. Most apprenticeship programs require applicants to possess high school diplomas. Program sponsors, which include employers, employer associations, and labor-management organizations, voluntarily operate and cover most or all costs of the program.

Newly revised regulations issued by DOL on October 29, 2008 create more flexibility for apprentices and employers, providing each with increased choices to meet the needs of industries that have traditionally used Registered Apprenticeship programs, as well as the needs of new and emerging industries. The most significant changes to the regulations include the recognition of multiple training approaches which increase flexibility for employers to select the path that best serves an apprentice's and/or an employer's needs. Under the new regulations, in addition to the traditional, time-based approach, which requires the apprentice to complete a specific number of hours of on-the-job training and technical instruction, training may also be provided via a competency-based approach, or a hybrid of a time and competency based approach. The newly revised regulations also provide for the awarding of interim credentials that offer active apprentices official recognition of their accomplishments and equip them with a portfolio of skills and incentives to continue their career preparation and complete their programs. Increased options for using electronic media to provide related technical instruction are also provided, allowing for distance learning and other technology-based instruction.

More than 950 occupations across all industry clusters nationwide are recognized through Registered Apprenticeship programs, and new occupations are regularly added as employer needs evolve to meet new economic realities. These occupations span a broad range of industry clusters and demonstrate the power of the Registered Apprenticeship model to build a 21st century workforce.

In the United States today, approximately 250,000 separate employers offer Registered Apprenticeship employment and training to almost 450,000 apprentices in such industries as construction, manufacturing, transportation, telecommunications, information technology, biotechnology, retail, health care, the military, utilities, security, and the public sector. By providing on-the-job training, related classroom instruction, and guaranteed wage structures, employers who sponsor apprentices provide incentives that can help them to attract and retain more highly qualified employees and improve productivity and services. Regions that adopt robust Registered Apprenticeship programs in the context of economic development strategies contribute to the pipeline of skilled workers and flexible career pathways to support current and future workforce demands.

The duration of training, and the skills and competencies required for mastery, are driven by industry. Certifications earned through Registered Apprenticeship programs are recognized nationwide as portable industry credentials. The primary apprentice certification is a Certificate of Completion of Apprenticeship, which is awarded at the end of the apprenticeship. Many apprenticeship programs, however, particularly in high-growth industries such as health care, advanced manufacturing, and transportation, also offer interim credentials and training certificates based on a competency model that leads to a Certificate of Completion. There may be beginning, intermediate, advanced, and specialty certification levels. Registered Apprenticeship programs also allow credit for previous apprenticeship-related experience.

Pre-apprenticeship training programs serve as a bridge for youth exploring career options and workers who may not have the fundamental skills to succeed in a Registered Apprenticeship program. Operated by education, community- or faith-based organizations, these training programs can help apprenticeship candidates decide on an occupational track and develop fundamental skills which improve productivity once employed. Pre-apprenticeship programs operate under an approved plan whereby candidates participate in a short, intensified training period in a school or training center with the intent to place them in Registered Apprenticeships upon completion or soon after completion of the program. Pre-apprenticeship can be used as a means of selecting apprentices under a particular program sponsor's approved program standards.

Two DOL sponsored national programs, Job Corps and YouthBuild, have the potential to serve as pre-apprentice feeder programs into Registered Apprenticeship. While Youth Build focuses on the building and construction trades, Job Corps provides more variety in course offerings, ranging from culinary arts to automotive technology.

Although limited research has been conducted on the impact of apprenticeship programming on post-secondary and employment outcomes for people with disabilities, an independent study conducted by the Center on Education and Work at the University of Wisconsin for the Wisconsin Governor's Work-Based Learning Board on graduates' experiences with the Wisconsin Youth Apprenticeship Program suggests a positive link between apprenticeship and employment earnings, retention, and enrollment in post-secondary education (Mickelson, Pereira, Fillingame, 2005). In addition, an earlier study on this same program identified the following factors as enhancing the success of all youth apprentices with and without disabilities:

1. High levels of program organization and coordination;

2. Meaningful and consistent communication between stakeholders;

3. A good “fit” between a young persons' abilities and their chosen youth apprenticeship career field;

4. A quality worksite placement (e.g., adequate rotation through competencies, presence of an experienced mentor); and

5. Rigorous and engaging classroom instruction that integrated technical and academic competencies.

While these factors were central to all youth apprenticeship experiences, they were found to be particularly critical in the apprenticeship experiences of youth with disabilities (Scholl & Mooney, 2003).

Although Federal legislation mandates that youth and young adults with disabilities have equal opportunity to benefit from the full range of career/technical educational programs and services available to their peers without disabilities, research conducted on this issue by ODEP in 2007 revealed that youth and young adults with disabilities rarely participate in apprenticeship programs. To capitalize on the potential that apprenticeship holds for improving employment opportunity and self-sufficiency for youth and young adults with disabilities, including those with significant disabilities, ODEP and OA have joined in this capacity-building initiative.

2. Description and Purpose

The overarching goal for this solicitation is to increase systems capacity to provide integrated inclusive apprenticeship training to youth and young adults with a full range of disabilities, including those with the most significant disabilities, utilizing the increased flexibilities detailed in DOL's newly released apprenticeship regulations. To help address the disproportionately negative employment-related outcomes of youth and young adults with disabilities, ODEP in collaboration with the OA will award cooperative agreements to two consortia.

Capitalizing on the increased flexibilities allowable under DOL's revised apprenticeship regulations, 29 CFR Part 29, regarding the provision of training and interim credentialing, successful applicants will research, develop, and evaluate innovative models of Registered Apprenticeship service delivery that are inclusive of youth and young adults with disabilities, including those with significant disabilities, between the ages of 16 and 27. It is expected that the models will produce skilled workers who are in demand in one or more high-growth, high-demand industries including but not limited to, construction, healthcare, green jobs, information technology, and biotechnology. To create a continuum of service delivery for youth with disabilities of high-school age, and to provide apprenticeship opportunities for those who may lack relevant skills, and those who may have dropped out or otherwise failed to obtain a high school diploma, the service delivery model being developed must also include a pre-apprenticeship component.

In addition to consortium members, successful applicants will also have formal partnerships with one or more of the following groups: employers, organized labor, employer associations, disability organizations, mental health, and developmental disability agencies, vocational rehabilitation agencies, One-Stop Career Centers, workforce investment boards, educational institutions, and the State Apprenticeship Agencies in states which are recognized by DOL as authorized to register apprentices for Federal purposes or the DOL Office of Apprenticeship in other states. Together, representatives of these partnerships will serve as the Advisory Council for the design and operation of this initiative.

Allowable uses of grant funds include:

a. Education and workforce investment activities such as:

• Basic skills instruction and remedial education;

• Tutoring, credit retrieval programs, dropout prevention activities, GED instruction, and career awareness classes;

• Counseling and assisting with obtaining postsecondary education and required financial aid;

• Alternative secondary school services;

• Job placement services;

• Job coaching;

• Vocational skills training;

• Occupational skills training;

• Paid and unpaid work experiences, including internships and job shadowing; and

• Career-related mentoring.

b. Participant personal development activities that seek to develop non-technical skills, abilities, and traits that participants need to function in a specific employment environment that support one or more workplace competencies including problem-solving and other cognitive skills, oral communication skills, personal qualities, and work ethic, and interpersonal and teamwork skills. Examples include leadership training, financial literacy, and job readiness training.

c. Recruiting employers to provide training and supervision for apprentices and pre-apprentices and students to participate in the pilot.

d. Monitoring the progress of pilot participants.

e. Employment-related support services and accommodations.

f. Follow-up services that focus efforts on job retention, wage gains and career progress through regular contact with participant employers, including assistance in addressing work-related problems that arise, assistance in securing better paying jobs, career development and further education, mentoring, and tracking of progress made by participants in employment after training.

g. Researching, testing, and evaluating the program model(s).

3. Definitions

Definitions for purposes of this solicitation include:

• Youth and young adults with disabilities refers to individuals with disabilities who are ages 16 to 27.

• Significant disability is defined as an individual with a disability who is receiving Social Security or Supplemental Security Income disability benefits.

• Pre-Apprenticeship Programs are those programs that prepare individuals for Registered Apprenticeship.

• Registered Apprenticeship is a formal employment relationship designed to promote skill training and learning on the job that is certified by DOL or a federally-recognized SAA as meeting the basic standards and requirements of DOL. “Hands on” learning takes place in conjunction with related theoretical instruction (often in a classroom setting). An apprentice, who successfully completes an OA registered program, is awarded a certificate of completion of apprenticeship. Newly revised DOL apprenticeship regulations, 29 CFR Part 29, also provide for interim credentialing. An OA registered program is one in which employers, or groups of employers, and unions design, organize, manage, and finance apprenticeship programs under the standards developed and registered with OA or an OA-recognized State Apprenticeship Agency. Employers, or groups of employers, and unions also select apprentices who are trained to meet certain predetermined occupational standards. For more information, see the OA Web site at http://www.doleta.gov/oa/.

• Community-Based Organization is a private non-profit organization, which may be faith-based, that is representative of a community or a significant segment of a community, which has for this project demonstrated experience in securing job training services from established training institutions such as community colleges, and providing placement and support services to apprentices in high-growth industries (included within the definition are “union-related organizations” and “employer-related nonprofit organizations”).

• RAP refers to a Registered Apprenticeship Program.

• Consortium refers to a group formed to undertake a project. The consortium required for this solicitation must have representation from each of the following four organization types:

(1) A RAP sponsor in a high-growth industry sector;

(2) A CBO with demonstrated experience in securing job training services from established training institutions such as community colleges, and providing placement and support services to apprentices in high-growth industries;

(3) A public/private non-profit or for-profit organization, including faith-based organizations, with demonstrated experience in providing employment and training services and employment related support services to people with disabilities; and

(4) An educational institution.

Part II. Award Information

1. Award Amount

Funding is expected to be provided for two Registered Apprenticeship cooperative agreements at approximately $200,000 each. Applicants are required to submit budgets within this financial range. The budget should reflect a phased approach that anticipates a planning period of up to 6 months followed by 18 full months of project operations.

Note: Selection of an organization as a grantee does not constitute approval of the grant application as submitted. Before the actual grant is awarded, DOL may enter into negotiations about such items as program components, staffing and funding levels, and administrative systems in place to support grant implementation. If the negotiations do not result in a mutually acceptable submission, the Grant Officer reserves the right to terminate the negotiation and decline to fund the application.

Inasmuch as the award will be made in the form of a cooperative agreement, DOL will have substantial involvement in the administration of the agreement. Such DOL involvement will consist of:

(1) Approval of any subcontract awarded by the grantee after the grant award;

(2) Participation in site visits to project areas;

(3) Providing advice and consultation to the grantee on specific program criteria;

(4) Providing the grantee(s) with technical and programmatic support, including training in DOL monitoring and evaluation systems, and standard procedures regarding DOL management of cooperative agreements;

(5) Reviewing, at reasonable times, all documents pertaining to the project, including status and technical progress reports, and financial reports. ODEP will provide the format for the reports;

(6) Discussing administrative and technical issues pertaining to the project;

(7) Approving all key personnel decisions, and sub-contractors or sub-awardees;

(8) Approving all deliverables, including but not limited to fact sheets, training materials, press releases and publicity-related materials regarding the project;

(9) Approving all content for online resources developed through project activities, including clearing concepts for material production and final document production; and

(10) Drafting terms of reference for, and participating in project evaluations.

2. Period of Performance

Cooperative Agreements will be awarded for an initial twenty four (24) month period of performance. This period of performance includes up to a six (6) month planning period prior to project implementation and at least eighteen (18) full months of direct service delivery. Each grant may receive up to three (3) additional option years of funding at the discretion of the Department depending on the availability of funds and satisfactory performance.

Part III. Eligibility Information and Other Grant Specifications

1. Eligible Applicants

Under this announcement only consortia may apply for and receive a cooperative agreement. Each consortium must, at a minimum, have representation from each of the following four organization types: (1) A RAP sponsor in a high-growth industry sector; (2) A CBO with demonstrated experience in securing job training services from established training institutions such as community colleges, and providing placement and support services to apprentices in high growth industries; (3) A public/private non-profit or for-profit organization which may be faith-based with demonstrated experience in providing employment and training services and employment related support services to people with disabilities; and (4) An educational institution. This requirement does not in any way prevent the participation of other entities, which are integral to the implementation of the project. All applications must clearly identify the lead grant recipient and fiscal agent, as well as all other members of the consortium applying for the cooperative agreement. In addition, the application must identify the relationship between all of the members of the consortium, and their respective roles in carrying out the project.

According to section 18 of the Lobbying Disclosure Act of 1995, an organization, as described in section 501(c)(4) of the Internal Revenue Code of 1986, that engages in lobbying activities will not be eligible for the receipt of Federal funds constituting an award, grant, or loan. See 2 U.S.C. 1611; 26 U.S.C. 501(c)(4). Funding restrictions apply. See Section IV(5).

2. Cost Sharing or Matching

Cost sharing, matching funds, and cost participation are not required under this SGA. However, complementary funds will be needed to pay the costs associated with providing training to participants who are youth without disabilities. The leveraging of public and private resources to foster inclusive service delivery and achieve project sustainability is highly encouraged and included under evaluation criteria. See Section V (1)(b)(8) below.

Leveraged resources can come from a variety of sources, including but not limited to: public sector (e.g., Federal, State, or local governments); non-profit sector (e.g., community organizations, faith-based organizations, or education and training institutions); private sector (e.g., businesses or industry associations); investor community (e.g., angel networks); philanthropic community; and the economic development community. Applicants must describe in detail how such leveraged funds will be used and demonstrate how these funds will contribute to the goals of the project.

3. Other Eligibility Requirements

Eligible Enrollees

An individual may participate in a Registered Apprenticeship-focused project funded through this cooperative agreement if such individual is between the ages of 16 and 27 on the date of enrollment. Although the Registered Apprenticeship program training model being tested must be inclusive and will therefore include youth without disabilities, funding for the training provided to youth without disabilities is not an allowable expense under this grant.

Legal Rules Pertaining to Inherently Religious Activities by Organizations that Receive Federal Financial Assistance:

Direct Federal grants, sub-award funds, or contracts under this program shall not be used to support inherently religious activities such as religious instruction, worship, or proselytization. Therefore, organizations must take steps to separate, in time or location, their inherently religious activities from the services funded under this program. Neutral, secular criteria that neither favor nor disfavor religion must be employed in the selection of grant and sub-grant recipients. In addition, under the Workforce Investment Act of 1998 and DOL regulations implementing the Workforce Investment Act, a recipient may not use direct Federal assistance to train a participant in religious activities, or employ participants to construct, operate, or maintain any part of a facility that is used or to be used for religious instruction or worship. See 29 CFR 37.6(f). Under WIA, “no individual shall be excluded from participation in, denied the benefits of, subjected to discrimination under, or denied employment in the administration of or in connection with, any such program or activity because of race, color, religion, sex (except as otherwise permitted under Title IX of the Education Amendments of 1972 and the Religious Freedom Restoration Act of 1993), national origin, age, disability, or political affiliation or belief.” Regulations pertaining to Equal Treatment in Department of Labor Programs for Religious Organizations, which includes the prohibition against Federal funding of inherently religious activities, can be found at 29 CFR Part 2, Subpart D. Provisions relating to the use of indirect support (such as vouchers) are at 29 CFR 2.33(c) and 20 CFR 667.266.

A faith-based organization receiving Federal funds retains its independence from Federal, State, and local governments, and may continue to carry out its mission, including the definition, practice, and expression of its religious beliefs. For example, a faith-based organization may use space in its facilities to provide secular programs or services funded with Federal funds without removing religious art, icons, scriptures, or other religious symbols. In addition, a faith-based organization that receives Federal funds retains its authority over its internal governance, and it may retain religious terms in its organization's name, select its board members on a religious basis, and include religious references in its organization's mission statements and other governing documents in accordance with all program requirements, statutes, and other applicable requirements governing the conduct of DOL-funded activities.

The Department notes that the Religious Freedom Restoration Act (RFRA), 42 U.S.C. sec. 2000bb, applies to all Federal law and its implementation. If your organization is a faith-based organization that makes hiring decisions on the basis of religious belief, it may be entitled to receive Federal financial assistance under Title I of the Workforce Investment Act and maintain that hiring practice even though Section 188 of the Workforce Investment Act contains a general ban on religious discrimination in employment. If you are awarded a grant, you will be provided with information on how to request such an exemption.

4. Priority of Service for Veterans and Eligible Spouses

The Jobs for Veterans Act (Pub. L.107-288) requires priority of service for veterans and spouses of certain veterans for the receipt of employment, training, and placement services in any job training program directly funded, in whole, or in part, by the Department. On December 19, 2008, the Department published a Final Rule (at 20 CFR Part 1010) implementing this statutory requirement to provide priority of service, effective January 19, 2009. A copy of these regulations can be accessed at: http://www.dol.gov/vets/E8-30166.pdf. Section 1010.220 of these regulations requires all recipients of Department job training funds to agree to implement priority of service as a condition for the receipt of funds and also requires all recipients of funds to ensure that priority of service is implemented by all of their sub-recipients. ETA Training and Employment Guidance Letter (TEGL) No. 5-03 (September 16, 2003), which was issued prior to publication of the regulations, provides guidance on the scope of the Jobs for Veterans Act and its implications for employment and training programs. TEGL No. 5-03, along with additional guidance, is available at the “Jobs for Veterans Priority of Service” Web site (http://www.doleta.gov/programs/vets). It is anticipated that updated guidance that more fully reflects the new regulations will be issued in the near future.

Part IV. Application and Submission Information

1. Address to Request Application Package

This announcement contains all of the information and links to forms needed to apply for this funding opportunity. Additional application packages and amendments to this SGA may be obtained from the ODEP Web site address at www.dol.gov/odep, and the Federal Grant Opportunities Web site address at http://www.grants.gov.

2. Content and Form of Application Submission

The three required sections of the application are titled below and described thereafter:

Part I: The Cost Proposal/Budget (No page limit).

Part II: Executive Summary—Project Synopsis (Not to exceed two (2) pages).

Part III: Project Narrative (Not to exceed twenty-five (25) pages excluding timeline and organizational chart).

Applications that fail to adhere to the instructions in this section will be considered non-responsive and may not be given further consideration.

A. Part I is the Cost Proposal/Budget and must include the following three items:

• The Standard Form (SF) 424, “Application for Federal Assistance” (available at http://www07.grants.gov/agencies/approved_standard_forms.jsp). The SF-424 must clearly identify the applicant and be signed by an individual with authority to enter into a grant agreement. Upon confirmation of an award, the individual signing the SF 424 on behalf of the applicant shall be considered the representative of the applicant.

• Dun and Bradstreet (DUNS) number. All applicants for Federal grant and funding opportunities are required to have a DUNS number. See OMB Notice of Final Policy Issuance, 68 FR 38402 (June 27, 2003). Applicants must supply their DUNS number on the SF-424. The DUNS number is a nine-digit identification number that uniquely identifies business entities. Obtaining a DUNS number is easy and there is no charge. To obtain a DUNS number, access this Web site: http://www.dnb.com/us/ or call 1-866-705-5711. If no DUNS number is provided then the grant application will be considered non-responsive and it will not be evaluated. Requests for exemption from the DUNS number requirement must be made to the Office of Management and Budget.

• The SF-424-A Budget Information Form (available at: http://www07.grants.gov/agencies/approved_standard_forms.jsp). In preparing the Budget Information Form, the applicant must provide a concise narrative explanation to support the request. The budget narrative should break down the budget and leveraged resources by the activities specified in the technical proposal. The narrative should also discuss precisely how the administrative costs support the project goals.

Applicants that fail to provide a SF-424, SF-424-A and/or a budget narrative will be removed from consideration prior to the technical review process. Leveraged resources should not be listed on the SF-424 or SF-424-A Budget Information Form, but must be described in the budget narrative and in Part II of the proposal. The amount of Federal funding requested for the entire period of performance must be shown on the SF-424 and SF-424-A Budget Information Form. Applicants are also required to submit OMB control number 1890-0014 Survey on Ensuring Equal Opportunity for Applicants, which can be found at: http://www.doleta.gov/grants/find_grants.cfm and a completed Assurance and Certification signature page must be submitted.

B. Part II is the Executive Summary technical proposal which must contain the following information:

• A Project Synopsis of no more than two single-spaced, single-sided pages on 8½″ x 11″ paper with standard margins throughout that identifies the following:

(1) The lead entity;

(2) The list of consortium members; and

(3) An overview of how the applicant will carry out research activities described in this solicitation.

C. Part III is the Project Narrative which must satisfy the requirements outlined below:

• The DOL Cooperative Agreement Project Narrative is limited to twenty-five (25) double-spaced single-sided with a 12-point font and one-inch margins. Any pages submitted in excess of this twenty-five (25) page limit will not be reviewed.

Note: Any Appendices, including letters of cooperation and resumes are not included in the twenty-five (25) page limit. The Timeline and Organizational Chart are also not included in this page limit. A page is 8½″ x 11″ (on one side only) with one-inch margins (top, bottom, and sides). All text in the application narrative, including titles, headings, footnotes, quotations, and captions must be double-spaced (no more than three lines per vertical inch); and, if using a proportional computer font, use no smaller than a 12-point font, and an average character density no greater than 18 characters per inch (if using a non-proportional font or a typewriter, do not use more than 12 characters per inch).

• The Project Narrative includes the applicant's capability to plan, implement, and evaluate a pilot project in accordance with the provisions of this solicitation. Following the outline provided in Section V (Significance of the Proposed Project, Project Design, Organizational Capacity and Quality of Key Personnel, Budget and Resource Capacity, Quality of the Management Plan, and Quality of the Project Evaluation), successful applicants will describe in the Project Narrative their innovative and comprehensive plan for accomplishing the research activities described in Part (1), Description and Purpose and Part I (2) Background. The Project Narrative must:

1. Identify members of the consortium (including the lead entity, a minimum of 4 consortium members is required) and provide documentation (such as letters of intent and memorandum of agreement which must be included in an Appendix) of a formal agreement of participation.

2. Demonstrate each of the consortium members' relevant experience and expertise.

3. Describe in detail the key features of the apprenticeship training program model that will be tested for effectiveness using these cooperative agreement funds, specifying the occupation(s) that will be the focus of the program, how any disability-related needs of youth and young adult participants will be addressed, and the potential contribution of the proposed project to increasing the quality and availability of integrated inclusive apprenticeship training to youth and young adults with a full range of disabilities.

4. Identify the organizations that will be the sponsoring agency(ies) for the Registered Apprenticeship program, and provide a memorandum of understanding or letter from these unions or employers indicating that they will be the sponsoring agencies for the project.

5. Describe the experience of the sponsoring agency(ies)/organizations in conducting apprenticeship training, including any currently operating apprenticeship training they are providing.

6. Identify the organizations that will serve on the advisory council for the apprenticeship program, and provide letters from these organizations indicating that they will serve on the advisory council.

7. Identify the number of individuals that will be served by this program when fully operational.

8. Describe how participants, with and without disabilities, will be identified and selected for the Registered Apprenticeship program.

9. Describe the characteristics of the participants the project expects to serve (i.e. age, number of participants, types of disabilities, educational level).

10. Describe the types of employment-related support services and follow-up services that will be provided to assist program participants with disabilities and how they will be funded.

11. Discuss how the workforce investment system will be a partner in this project, and include a memorandum of understanding or letter from the workforce investment system describing their role in the project.

12. Describe the role of educational institutions in the project.

13. Discuss what complementary funds will be leveraged to cover the cost of services being provided to youth without disabilities.

14. Describe what efforts will be undertaken to establish workforce system, community, business, disability and school-based partnerships sufficient to support project implementation.

15. Describe efforts that will be undertaken to encourage the active involvement of people with all types of disabilities, and disability-related experts, and organizations in project activities.

16. Identify additional Federal, state, and other resources that will be leveraged and used to support and sustain the overall objectives of the grant.

17. Describe in detail the design and analysis that will be used to validate the model being tested and the methods and procedures that will be used for collecting, analyzing, and reporting data in order to evaluate the project.

18. Describe the procedures and approaches that will be used to work with multiple Federal, state and local public agencies, and business, disability, and other private entities to sustain, replicate, and expand the apprenticeship model being tested.

• Each Project Narrative must also include:

1. A detailed twenty-four (24) month management plan for project goals, objectives, and activities;

2. A detailed twenty-four (24) month timeline for project activities, including producing and submitting a final report;

3. A detailed outline for an evaluation of the project which references the applicant's commitment to working with ODEP on all evaluation activities (see Section V(1)(F), below, for more information);

4. A description of procedures and approaches that will be used to provide ongoing communication, collaboration with, and input from ODEP's Project Officer on all grant-related activities;

5. A detailed description of how the consortia will work with multiple Federal, state and local public and private partners in carrying out project activities; and

6. A detailed description of measures that will be taken to ensure the sustainability of the apprenticeship model implemented after Federal funding ceases.

• The Project Narrative must describe the proposed staffing for the project and must identify and summarize the qualifications of the personnel who will carry it out. In addition, the applicant must provide an organizational chart for staff that will operate the proposed project. In instances where the project is part of the work of a larger organization (i.e. a lead human services agency), please include a diagram that indicates where the proposed project will fit within the larger organization. (The organizational chart does not count toward the twenty-five (25) page limit for the Project Narrative.)

• In addition, the evaluation criteria listed in Section V(1)(c), below, include consideration of the qualifications, including relevant education, training and experience of key project personnel, as well as the qualifications, including relevant training and experience, of project consultants or subcontractors. Resumes must be included in the appendices. Key personnel, which need not all be from the same consortium organization, include: Principle Investigator, Project Director, Project Coordinator, Project Manager, Research Analyst, and any other individual playing a substantial role in the project. In addition, the applicant must specify in the application, the percentages of time to be dedicated by each key person on the project.

• For each staff person named in the application, please provide documentation of all internal and external time commitments. In instances where a staff person is committed on a federally supported project, please provide the project name, Federal office, program title, the project Federal Award Number, and the amount of committed time by each project year. This information (e.g., Staff: Jane Doe; Project Name: Succeeding in the General Curriculum; Federal Office: Office of Special Education Programs; Program Title: Field Initiated Research; Award Number: H324C980624; Time Commitments: Year 1—30 percent; Year 2—25 percent, and Year 3—40 percent) can be provided as an appendix to the application.

In general, ODEP will not reduce time commitments on currently funded grants from the time proposed in the original application. Therefore, we will not consider for funding any application where key staff are bid above a time commitment level that staff have available to bid. Further, the time commitments stated in newly submitted applications will not be negotiated down to permit the applicant to receive a new grant award.

• The Project Narrative should also describe how the applicant plans to comply with the employment discrimination and equal employment opportunity requirements of the various laws listed in the assurances section.

Applications may be submitted electronically on http://www.grants.gov/applicants/app_help_reso.jsp#faqs or in hard-copy via U.S. mail, professional delivery service, or hand delivery. These processes are described in further detail in Section IV(3). Applicants submitting proposals in hard-copy must submit an original signed application (including the SF-424) and two (2) “copy-ready” versions free of bindings, staples or protruding tabs to ease in the reproduction of the proposal by DOL. Applicants submitting proposals in hard-copy are also requested, though not required, to provide an electronic copy of the proposal on CD-ROM.

3. Submission Date, Times, and Addresses

The closing date for receipt of applications under this announcement is thirty (30) days after the publication date in the Federal Register. Applications must be received at the address below no later than 5 p.m. (Eastern Time). Applications submitted electronically through Grants.gov, must be successfully submitted http://www.grants.gov no later than 5 p.m. (Eastern Time) on that same date, and then subsequently validated by Grants.gov. The submission and validation process is described in more detail below. The process can be complicated and time-consuming. Applicants are strongly advised to initiate the process as soon as possible and to plan for time to resolve technical problems if necessary.

Applications sent by e-mail, telegram, or facsimile (fax) will not be accepted.

If an application is submitted by both hard-copy and through www.grants.gov a letter must accompany the hard-copy application stating why two applications were submitted and the differences between the two submissions. If no letter accompanies the hard-copy we will review the copy submitted through www.grants.gov. For multiple applications submitted through www.grants.gov, we will review the latest submittal.

Applications that do not meet the conditions set forth in this notice will not be honored. No exceptions to the mailing and delivery requirements set forth in this notice will be granted.

Mail/overnight mail/hand delivery—To apply by mail, please submit one (1) blue-ink signed, typewritten original of the application and two (2) signed photocopies in one package to the United States Department of Labor, Procurement Services Center, Attention: Cassandra Mitchell, Reference SGA (09-03), 200 Constitution Avenue, NW., Room S-4307, Washington, DC 20210. Information about applying online through www.grants.gov can be found in Section IV.B of this document. Applicants are advised that mail delivery in the Washington area may be delayed due to mail decontamination procedures. Hand delivered proposals will be received at the above address.

Electronic submission—Applicants may apply online through Grants.gov (http://www.grants.gov). It is strongly recommended that before the applicant begins to write the proposal, applicants should immediately initiate and complete the “Get Registered” registration steps at http://www.grants.gov/applicants/get_registered.jsp. These steps may take multiple days or weeks to complete, and this time should be factored into plans for electronic submission in order to avoid unexpected delays that could result in the rejection of an application. It is highly recommended that applicants use the “Organization Registration Checklist” at http://www.grants.gov/assets/Organization_Steps_Complete_Registration.pdf to ensure the registration process is complete.

Within two business days of application submission, Grants.gov will send the applicant two e-mail messages to provide the status of application progress through the system. The first e-mail, almost immediate, will confirm receipt of the application by Grants.gov. The second e-mail will indicate the application has either been successfully validated or has been rejected due to errors. Only applications that have been successfully submitted and successfully validated will be considered. It is the sole responsibility of the applicant to ensure a timely submission, therefore sufficient time should be allotted for submission (two business days), and if applicable, subsequent time to address errors and receive validation upon resubmission (an additional two business days for each ensuing submission). It is important to note that if sufficient time is not allotted and a rejection notice is received after the due date and time, the application will not be considered.

The components of the application must be saved as either .doc, .xls or .pdf files. Documents received in a format other than .doc, .xls or .pdf will not be read.

The Grants.gov helpdesk is available from 7 a.m. (Eastern Time) until 9 p.m. (Eastern Time). Applicants should factor the unavailability of the Grants.gov helpdesk after 9 p.m. (Eastern Time) into plans for submitting an application.

Applicants are strongly advised to utilize the plethora of tools and documents, including FAQs, that are available on the “Applicant Resources” page at http://www.grants.gov/applicants/app_help_reso.jsp#faqs. To receive updated information about critical issues, new tips for users and other time sensitive updates as information is available, applicants may subscribe to “Grants.gov Updates” at http://www.grants.gov/applicants/e-mail_subscription_signup.jsp. If applicants encounter a problem with Grants.gov and do not find an answer in any of the other resources, call 1-800-518-4726 to speak to a Customer Support Representative or e-mail support@grants.gov.

Late Applications: For applications submitted on Grants.gov, only applications that have been successfully submitted no later than 5 p.m. (Eastern Time) on the closing date and successfully validated will be considered. For applicants not submitting on Grants.gov, any application received after the exact date and time specified for receipt at the office designated in this notice will not be considered, unless it is received before awards are made, was properly addressed, and: (a) Was sent by U.S. Postal Service registered or certified mail not later than the fifth calendar day before the date specified for receipt of applications (e.g., an application required to be received by the 20th of the month must be postmarked by the 15th of that month) or (b) was sent by professional overnight delivery service to the addressee not later than one working day prior to the date specified for receipt of applications.

“Postmarked” means a printed, stamped or otherwise placed impression (exclusive of a postage meter machine impression) that is readily identifiable, without further action, as having been supplied or affixed on the date of mailing by an employee of the U.S. Postal Service. Therefore, applicants should request the postal clerk to place a legible hand cancellation “bull's eye” postmark on both the receipt and the package. Failure to adhere to the above instructions will be a basis for a determination of non-responsiveness. Evidence of timely submission by a professional overnight delivery service must be demonstrated by equally reliable evidence created by the delivery service provider indicating the time and place of receipt.

4. Withdrawal of Applications

Applications may be withdrawn by written notice or telegram (including mailgram) received at any time before an award is made. Applications may be withdrawn in person by the applicant or by an authorized representative thereof, if the representative's identity is made known and the representative signs a receipt for the proposal.

5. Intergovernmental Review

This funding opportunity is not subject to Executive Order (EO) 12372, “Intergovernmental Review of Federal Programs.”

6. Funding Restrictions

All proposed costs must be necessary and reasonable in accordance with Federal guidelines. Determinations of allowable costs will be made in accordance with the applicable Federal cost principles, e.g., Non-Profit Organizations—OMB Circular A-122. Disallowed costs are those charges to a grant that the grantor agency or its representative determines not to be allowed in accordance with the applicable Federal Cost Principles or other conditions contained in the grant. Applicants will not be entitled to reimbursement of pre-award costs.

7. Indirect Costs

As specified in OMB Circulars on Cost Principles, indirect costs are those that have been incurred for common or joint objectives and cannot be readily identified with a particular cost objective. In order to utilize grant funds for indirect costs incurred, the applicant must obtain an Indirect Cost Rate Agreement with its Federal Cognizant Agency either before or shortly after the grant award. The Federal Cognizant Agency is generally determined based on the preponderance of Federal dollars received by the recipient.

8. Administrative Costs

An entity that receives a grant to carry out a project or program may not use more than 15 percent of the amount of the grant to pay administrative costs associated with the program or project. Administrative costs could be both direct and indirect costs and are defined at 20 CFR 667.220. Administrative costs do not need to be identified separately from program costs on the SF-424A Budget Information Form. They should be discussed in the budget narrative and tracked through the grantee's accounting system. To claim any administrative costs that are also indirect costs, the applicant must obtain an Indirect Cost Rate Agreement from its Federal Cognizant Agency as specified above.

V. Application Review Information

1. Evaluation Criteria

A technical panel will review grant applications against the criteria listed below, on the basis of the maximum points indicated.

(a) Significance of the Proposed Project (10 Points)

In determining the significance of the proposed research, the Department will consider the following factors:

(1) The potential contribution of the proposed project to increase knowledge or understanding of problems, issues, or effective strategies for providing inclusive Registered Apprenticeship training services and supports to youth and young adults with disabilities;

(2) The likelihood that the proposed project will result in systems change or improvement;

(3) The extent to which the proposed project is likely to build capacity to provide, improve, or expand services that address the needs of the target population as they relate to employment;

(4) The likely replicability of the model that will result from the proposed project, and its potential for being used effectively in a variety of other settings;

(5) The importance or magnitude of the results or outcomes likely to be attained by the proposed project; and

(6) The extent to which the proposed project builds upon prior work done by ODEP and its partners around youth in transition, including the Guideposts for Success and related policies and practices.

(b) Project Design (25 Points)

In evaluating the quality of the proposed project design, the Department will consider the following factors:

(1) The extent to which the goals, objectives, and outcomes to be achieved by the proposed project are clearly specified and measurable;

(2) The extent to which the design of the proposed project includes a high-quality review of the relevant literature, a high-quality plan for project implementation, and the use of appropriate methodological tools to ensure successful achievement and measurement of project objectives;

(3) The extent to which the proposed project will effectively contribute to increased knowledge and understanding by building upon current theory, research, and effective practices;

(4) The extent to which the proposed project encourages involvement of youth with disabilities and their families, relevant experts, organizations and groups;

(5) The extent to which performance feedback and continuous improvement are integral to the design of the proposed project;

(6) The extent to which the services to be provided by the proposed project are appropriate to the needs of the intended recipients or beneficiaries of those services as well as to the needs of employers;

(7) The adequacy of the documentation submitted in support of the proposed project to demonstrate the commitment of each entity or individual included in project implementation;

(8) The extent to which the proposed project leverages other public and private resources to foster inclusive service delivery and sustainability and provides other concrete evidence of sustainability, including appropriate letters of support included in the appendices; and

(9) The extent to which the design of the proposed project capitalizes on the flexibilities provided in DOL's new apprenticeship regulations and utilizes cutting edge strategies to promote inclusive pre-apprenticeship and Registered Apprenticeship training of youth and young adults with disabilities in a high growth industry(ies).

(c) Organizational Capacity and Quality of Key Personnel (20 Points)

Applications will be evaluated based on the extent to which the applicant demonstrates organizational capacity and quality of key personnel to implement the proposed project, including:

(1) Demonstrated experience with similar projects that plan, develop, implement, and evaluate new strategies and produce replicable models for providing employment-related training to youth, including youth with disabilities;

(2) Qualifications and experience of the applicant's key personnel and consultants;

(3) Commitment to developing and sustaining work across key stakeholders;

(4) Experience and commitment of any proposed consultants or subcontractors; and

(5) Appropriateness of the organization's structure to carry out the project. (The structure and staffing of the organization align with the project's requirements, vision, and goals and are designed to assure responsible general management of the project).

(d) Budget and Resource Capacity (10 Points)

In evaluating the capacity of the applicant to carry out the proposed project, ODEP will consider the following factors:

(1) The extent to which the budget is adequate to support the proposed project; and

(2) The extent to which the anticipated costs are reasonable in relation to the objectives, design, and potential significance of the proposed project.

(e) Quality of the Management Plan (15 Points)

In evaluating the quality of the management plan for the proposed project, ODEP will consider the following factors:

(1) The extent to which the management plan for project implementation appears likely to achieve the objectives of the proposed project on time and within budget, and includes clearly defined staff responsibilities, time allocation to project activities, time lines, milestones for accomplishing project tasks, project deliverables and information on adequacy of other resources necessary for project implementation;

(2) The extent to which the management plan appears likely to result in sustainable activities beyond the period of direct Federal investment;

(3) The adequacy of mechanisms for ensuring high-quality products and services relating to the scope of work for the proposed project; and

(4) The extent to which the time commitments of the project director and/or principal investigator and other key project personnel are appropriate and adequate to meet the objectives of the proposed project.

(f) Quality of the Project Evaluation (20 Points)

In evaluating the quality of the project's evaluation design, the Department will consider the following factors:

(1) The extent to which the methods of evaluation are thorough, feasible, and appropriate to the goals, objectives, context, and outcomes of the proposed project;

(2) The extent to which the design of the evaluation includes the use of objective performance measures and methods that will clearly document the project's intended outputs and outcomes and will produce measurable quantitative and qualitative data;

(3) The extent to which the evaluation will provide Federal, State and local government entities with useful information about transition and systems change models suitable for replication or testing in other settings; and

(4) The extent to which the methods of evaluation provide measures that will inform ODEP's annual performance goals and measures and ODEP's long-term strategic goals.

2. Review and Selection Process

Proposals that are timely and responsive to the requirements of this SGA will be rated against the criteria listed above by an independent panel comprised of representatives from DOL and other peers. The ranked scores will serve as the primary basis for selection of applications for funding, in conjunction with other factors such as urban, rural, and geographic balance; the availability of funds; and which proposals are most advantageous to the Government. The panel results are advisory in nature and not binding on the Grant Officer, and the Grant Officer may consider any information that comes to his/her attention. The Department may elect to award the grant(s) with or without discussions with the applicants.

Should a grant be awarded without discussions, the award will be based on the applicant's signature on the SF- 424, which constitutes a binding offer by the applicant (including electronic signature via E-Authentication on http://www.grants.gov).

3. Anticipated Announcement and Award Dates

The anticipated date of announcement and award is September 29, 2009.

VI. Award Administration Information

1. Award Notices

All award notifications will be posted on the ODEP homepage at http://www.dol.gov/odep/and the OA Web site http://www.doleta.gov/oa. Applicants selected for award will be contacted directly before the grant's execution. The notice of award signed by the Grants Officer will serve as the authorizing document. Applicants not selected for award will be notified by mail.

2. Administrative and National Policy Requirements—Administrative Program Requirements

All grantees, including faith-based organizations, will be subject to all applicable Federal laws (including provisions of appropriation laws), regulations, and the applicable OMB Circulars. The grant(s) awarded under this SGA must comply with all provisions of this solicitation and will be subject to the following statutory and administrative standards and provisions, as applicable to the particular grantee:

• 20 Code of Federal Regulations (CFR) 667.220, administrative costs;

• Non-Profit Organizations—OMB Circular A-122 (cost principles) and 29 CFR part 95 (administrative requirements); Educational Institutions—OMB Circular A-21 (cost principles) and 29 CFR part 95 (administrative requirements);

• State, local and Indian Tribal—OMB Circular A-87 (cost principles) and 29 CFR part 97 (administrative requirements);

• All entities must comply with 29 CFR parts 93 and 98 and, where applicable, 29 CFR parts 96 and 99;

• In accordance with Section 18 of the Lobbying Disclosure Act of 1995, Public Law 104-65 (2 U.S.C. 1611), non-profit entities incorporated under Internal Revenue Service Code section 501(c)(4) that engage in lobbying activities are not eligible to receive Federal funds and grants;

• 29 CFR part 2, subpart D—Equal Treatment in Department of Labor Programs for Religious Organizations; Protection of Religious Liberty of Department of Labor Social Service Providers and Beneficiaries;

• 29 CFR part 30—Equal Employment Opportunity in Registered Apprenticeship and Training;

• 29 CFR part 31—Nondiscrimination in Federally Assisted Programs of the Department of Labor—Effectuation of Title VI of the Civil Rights Act of 1964; 29 CFR part 32—Nondiscrimination on the Basis of Handicap in Programs and Activities Receiving or Benefiting from Federal Financial Assistance;

• 29 CFR part 33—Enforcement of Nondiscrimination on the Basis of Handicap in Programs or Activities Conducted by the Department of Labor;

• 29 CFR part 35—Nondiscrimination on the Basis of Age in Program or Activities Receiving Federal Financial Assistance from the Department of Labor;

• 29 CFR part 36—Nondiscrimination on the Basis of Sex in Education Program or Activities Receiving Federal Financial Assistance;

• 29 CFR part 37—Implementation of the Nondiscrimination and Equal Opportunity Provisions of the Workforce Investment Act of 1998 (WIA);

• 29 CFR part 1926, Safety and Health Regulations for Construction of the Occupational Safety and Health Act (OSHA); and

• 29 CFR part 570, Child Labor Regulations, Orders and Statements of Interpretation of the Employment Standard Administration's Child Labor Provisions.

Note: Except as specifically provided in this Notice, DOL/ODEP's acceptance of proposal and award of Federal funds to sponsor any program(s) do not provide a waiver of any grant requirements and/or procedures. For example, OMB Circulars require that an entity's procurement procedures must ensure that all procurement transactions are conducted, as much as practical, to provide open and free competition. If a proposal identifies a specific entity to provide services, the DOL/ODEP award does not provide the justification or basis to sole source the procurement, i.e., avoid competition, unless the activity is regarded as the primary work of an official partner to the application.

3. Travel

Any travel undertaken in performance of this cooperative agreement shall be subject to and in strict accordance with Federal travel regulations.

4. Acknowledgement of DOL Funding

Printed Materials: In all circumstances, the following shall be displayed on printed materials prepared by the grantee under the cooperative agreement: “Preparation of this item was funded by the United States Department of Labor under Grant No. [insert the appropriate Grant number].”

All printed materials must also include the following notice: “This document does not necessarily reflect the views or policies of the U.S. Department of Labor, nor does mention of trade names, commercial products, or organizations imply endorsement by the U.S. Government. ”

Public reference to grant: When issuing statements, press releases, requests for proposals, bid solicitations, and other documents describing projects or programs funded in whole or in part with Federal money, all grantees receiving Federal funds must clearly state:

(1) The percentage of the total costs of the program or project, which will be financed with Federal money;

(2) The dollar amount of Federal financial assistance for the project or program; and

(3) The percentage and dollar amount of the total costs of the project or program that will be financed by non-governmental sources.

Use of DOL and ODEP Logo: In consultation with DOL/ODEP, the grantee must acknowledge DOL's role as described. The DOL and/or ODEP logo may be applied to DOL-funded material prepared for world-wide distribution, including posters, videos, pamphlets, research documents, national survey results, impact evaluations, best practice reports, and other publications of global interest. The grantee must consult with DOL on whether the logo may be used on any such items prior to final draft or final preparation for distribution. In no event shall the DOL and/or ODEP logo be placed on any item until DOL has given the grantee written permission to use the logo on the item.

5. Intellectual Property

Federal Government reserves a paid-up, nonexclusive and irrevocable license to reproduce, publish or otherwise use, and to authorize others to use for Federal purposes: (i) The copyright in all products developed under the grant, including a subgrant or contract under the grant or subgrant; and (ii) any right to copyright to which the grantee, subgrantee or a contractor purchases ownership under an award (including but not limited to curricula, training models, technical assistance products and any related materials). Such uses include, but are not limited to, the right to modify and distribute such products worldwide by any means, electronically or otherwise. Federal funds may not be used to pay any royalty or licensing fee associated with such copyrighted material, although they may be used to pay costs for obtaining a copy which is limited to the developer/seller costs of copying and shipping.

If revenues are generated through selling products developed with grant funds, including intellectual property, these revenues are program income. Program income is added to the grant and must be expended for allowable grant activities.

6. Approval of Key Personnel and Subcontractors

The recipient shall notify the Grant Officer at least fourteen (14) calendar days in advance if any key personnel are to be removed or diverted from the cooperative agreement, shall supply written justification as part of this notice as to why these persons are to be removed or diverted, shall provide the names(s) of the proposed substitute or replacement, and shall include information on each new individual's qualifications such as education and work experience.

7. Reporting and Accountability

The Registered Apprenticeship grants will be subject to performance measures based upon project focus. ODEP is responsible for ensuring effective implementation of this cooperative agreement, in accordance with the provisions of this announcement and the terms of the cooperative agreement award document.

Applicants should assume that ODEP staff will conduct on-site project reviews periodically. Reviews will focus on timely project implementation, performance in meeting the cooperative agreement's objectives, tasks and responsibilities, expenditures of cooperative agreement funds on allowable activities, and administration of project activities. Projects may be subject to other additional reviews, at the discretion of the ODEP.

The selected applicant must submit on a quarterly basis, beginning ninety (90) days from the award of the grant, financial and activity reports under this program as prescribed by OMB Circular A-110, codified at 2 CFR part 215 and 29 CFR part 95. Specifically the following reports will be required:

1. Quarterly report: The quarterly report is estimated to take five (5) hours to complete. The form for the quarterly report will be provided by ODEP. The Department will work with the grantee to help refine the requirements of the report, which, among other things, will include measures of ongoing analysis for continuous improvement. This report will be filed using an on-line reporting system. The form will be submitted within thirty (30) days of the close of the quarter.

2. Standard Form 269, Financial Status Report Form: This form is to be completed and submitted on a quarterly basis using the on-line electronic reporting system unless ODEP provides different instructions.

3. Final Project Report: The Final Project Report is to include an assessment of project performance and outcomes achieved. It is estimated that this report will take twenty (20) hours to complete. This report will be submitted in hard copy and on electronic disk using a format and following instructions, to be provided by ODEP. A draft of the final report is due to ODEP sixty (60) days before the end of the period of performance of the cooperative agreement. The final report is due to ODEP and the DOL Grants Office ten (10) days before the end of the period of performance of the cooperative agreement.

The Department will arrange for an evaluation of the outcomes, impacts, accomplishments, and benefits of each funded project. The grantee must agree to cooperate with this evaluation and must make available records on all parts of project activity, including available data on service delivery models being studied, and provide access to personnel, as specified by the evaluator(s), under the direction of ODEP. This evaluation is separate from the ongoing evaluation for continuous improvement required of the grantee for project implementation.

VII. Agency Contacts

Any questions regarding this SGA should be directed to Cassandra Mitchell, e-mail address: mitchell.cassandra@dol.gov, tel: 202-693-4570 (note that this is not a toll-free number). To obtain further information about the Office of Disability Employment Policy of the U.S. Department of Labor, visit the DOL Web site of the Office of Disability Employment Policy at http://www.dol.gov/odep.

VIII. Additional Resources and Other Information

1. Resources for the Applicant

DOL maintains a number of Web based resources that may be of assistance to applicants:

• For general information about Registered Apprenticeship see http://www.doleta.gov/OA/.

• For information about DOL's new Apprenticeship Regulations see http://www.doleta.gov/OA/regulations.cfm.

• For a basic understanding of the grants process and basic responsibilities of receiving Federal grant support, please see “Guidance for Faith-Based and Community Organizations on Partnering with the Federal Government” (http://www.whitehouse.gov/government/fbci/guidance/index.html).

2. Other Information

OMB Information Collection No.: 1225-0086, Expires: September 30, 2009. According to the Paperwork Reduction Act of 1995, no persons are required to respond to a collection of information unless such collection displays a valid OMB control number. Public reporting burden for this collection of information is estimated to average twenty (20) hours per response, including time for reviewing instructions, searching existing data sources, gathering and maintaining the data needed, and completing and reviewing the collection of information. Send comments regarding the burden estimated or any other aspect of this collection of information, including suggestions for reducing this burden, to the U.S. Department of Labor, the OMB Desk Officer for ETA, Office of Management and Budget, Room 10235, Washington, DC 20503. Please do not return your completed application to the OMB. Send it to the sponsoring agency as specified in this solicitation. This information is being collected for the purpose of awarding a grant. The information collected through this “Solicitation for Grant Applications” will be used by the Department of Labor to ensure that grants are awarded to the applicant best suited to perform the functions of the grant. Submission of this information is required in order for the applicant to be considered for award of this grant. Unless otherwise specifically noted in this announcement, information submitted in the respondent's application is not considered to be confidential.

Appendices: (Located on U.S. Department of Labor, Office of Disability Employment Policy Web page http://www.dol.gov/odep follow link for the applicable SGA.)

Appendix A: Application for Federal Assistance SF-424

Appendix B: Budget Information Sheet SF-424A

Appendix C: Assurances and Certifications Signature Page

Appendix D: Survey on Ensuring Equal Opportunity for Applicants

Appendix E: Indirect Charges or Certificate of Direct Costs

Signed at Washington, DC, this 10th day of June 2009.
Cassandra Mitchell,
Grant Officer.

[FR Doc. E9-14076 Filed 6-15-09; 8:45 am]

BILLING CODE 4510-FT-P